DEPARTMENT OF THE INTERIOR

Bureau of Land Management

[LLIDI01000-10-L12200000.AL0000]

Notice of Proposed Supplementary Rules for the Upper Snake Field Office

AGENCY: Bureau of Land Management, Interior.

ACTION: Notice of proposed supplementary rules.

SUMMARY: The Bureau of Land Management (BLM) is proposing supplementary rules for public lands within the approximate 119 miles of river corridor addressed in the Snake River Activity and Operations Plan 2008 (Snake River Plan). The Snake River Plan is a joint BLM and U.S. Forest Service (USFS) Caribou-Targhee National Forest, Palisades Ranger District planning document, approved July 8, 2008. The Snake River Plan describes an array of management actions designed to conserve natural and cultural resources on lands managed by the BLM and the USFS, while providing for recreational opportunities in the area. These proposed supplementary rules would be enforced on lands managed by the BLM.

DATES: You should submit your comments by September 30, 2010. Comments postmarked or received in person or by electronic mail after this date may not be considered in the development of the final supplementary rules.

ADDRESSES: You may submit comments by the following methods: Mail or hand- deliver: Bureau of Land Management, Upper Snake Field Office, 1405 Hollipark Drive, Idaho Falls, Idaho 83401.

FOR FURTHER INFORMATION CONTACT: Wendy Reynolds, BLM Upper Snake Field Manager at (208) 524-7500. Contact Ron Dickemore, USFS Palisades Ranger District for further information concerning enforcement on lands managed by the USFS (208) 523-1412.

SUPPLEMENTARY INFORMATION:

I. Public Comment Procedures

II. Background

III. Discussion of the Proposed Supplementary Rules

IV. Procedural Matters

I. Public Comment Procedures

Written comments on the rules should be confined to issues pertinent to the proposed rules, and should explain the reason for any recommended change. Where possible, comments should reference the specific section or paragraph of the proposal which the commenter is addressing. The BLM is not obligated to consider or include in the Administrative Record for the final supplementary rule, comments received after the close of the comment period (see DATES), unless they are postmarked before the deadline, or comments delivered to an address other than that listed above (see ADDRESSES).

Comments, including names, street-addresses, and other contact information of respondents, will be available for public review at the Upper Snake Field Office address listed in (ADDRESSES) during regular business hours (7:45 a.m. to 4:30 p.m., Monday through Friday, except on Federal holidays).

Before including your address, phone number, e-mail address, or other personal identifying information in your comment, you should be aware that your entire comment-including your personal identifying information-may be made publicly available at any time. While you can ask us in your comment to withhold your personal identifying information from public review, we cannot guarantee that we will be able to do so.

II. Background

The Snake River Plan covers approximately 119 miles of river corridor in southeast Idaho, including the South Fork of the Snake River (South Fork) from Palisades Dam to the confluence with the Henry's Fork of the Snake River (Henry's Fork), the Henry's Fork from St. Anthony to its confluence with the South Fork, and the main stem of the Snake River (Main Snake) from the confluence south to Market Lake Canal below Lewisville Knolls. A map is available at the BLM Upper Snake Field Office titled “The Snake River Planning Area.”

The original Snake River Activity/Operations Plan was published in 1991, but due to increased use, growing popularity of the rivers, population growth, increased environmental impacts, and changes in State and Federal regulations, an updated plan was needed. The Snake River Plan revision was completed in 2008 when the Record of Decision was signed and replaced the 1991 Snake River Plan. The updated Snake River Plan contains a series of standards and management objectives based on the delineation of the planning area into nine site-specific management classes. The plan identifies the implementation of an array of management actions for each of the classes designed to conserve natural and cultural resources, while providing for recreational opportunities in the area.

The Snake River planning process gathered public scoping information using a variety of methods over a 3-year period. Initially, the BLM created traveling kiosks to provide information about the planning process. The kiosks were placed at key locations in the greater planning area. The kiosks contained comment cards that helped generate an interested public list. The BLM then distributed multiple mailings to over 1,000 people with each mailing and received comments concerning the management directions for the plan. The mailing list included all interested public who supplied their addresses during public scoping events, as well as South Fork season pass holders. The BLM staff hosted multiple public scoping meetings, presented the Snake River Plan to interested groups (e.g., local fishing clubs, county commissioners, water user groups), and received numerous comments.

The BLM consulted the Shoshone-Bannock Tribes over the course of the planning timeframe. Multiple scoping meetings with the Shoshone-Bannock Tribes Fort Hall Business Council, Environmental Management staff, and Fish and Wildlife staff were held. The BLM received tribal comments on the proposed management actions and recreation issues. In addition, the draft plan was reviewed by the Shoshone-Bannock Tribes, and the BLM incorporated comments into the Final Snake River Plan.

These supplementary rules will help the BLM achieve management objectives and implement the Plan's decisions. These supplementary rules will also allow the BLM to increase law enforcement efforts that will help mitigate damage to natural resources, provide for public health, and provide for safe public recreation.

III. Discussion of the Proposed Supplementary Rules

The proposed supplementary rules apply to BLM-managed lands located along 119 miles of river corridor that have been analyzed in the Snake River Plan. These rules will implement management direction outlined in the Record of Decision signed on July 8, 2008. Maps that pertain to the supplementary rules will be available at the BLM office in Idaho Falls. All management decisions are proposed under the authority of 43 CFR 8341.1, 8364.1, 8365.1-4, and 9268.3. This notice, with detailed maps, will be posted at the BLM Upper Snake Field Office.

Changes in recreation use, resource conflicts, Idaho Department of Fish and Game (IDF&G) regulations, listings under the Endangered Species Act (ESA), and population growth have triggered the need for the BLM to implement the supplementary rules within the planning area defined in the Snake River Plan. The objectives of the Snake River Plan are to protect the natural settings, recreational values, geologic, wildlife and fisheries, and cultural values of public lands, while providing a safe and enjoyable experience to the public. Additionally, the supplementary rules will help maintain and improve environmental conditions (e.g., vegetation and riparian health) of developed and undeveloped recreation sites and facilities by identifying designated camping areas, parking areas and boat ramps; requiring fire pan use, and protecting wildlife species through human entry closures of winter range. These rules will also allow for the safety of BLM employees, volunteers, and the general public by eliminating contact with human waste and identifying target shooting areas. These rules will increase visitor safety, reduce human health and sanitation concerns, protect natural and cultural resources, and eliminate motorized and non-motorized impacts on sensitive riparian habitat.

The Snake River Plan defines allowable uses and restricts certain activities in the planning area. These supplementary rules implement management actions identified in the Snake River Plan while allowing for management flexibility. For example, these rules restrict camping to designated sites, require the use of portable toilets, require the use of fire pans, restrict the collection of firewood, and prohibit human entry to critical wintering habitat and nesting locations, which is essential to providing maximum protection to the area's native riparian vegetation, sensitive wildlife and plant species, and the Outstandingly Remarkable Values identified through the Wild and Scenic River Eligibility Study. In addition, these rules protect visitor health and safety while decreasing the likelihood of life-threatening accidents by prohibiting shooting in developed recreation facilities. Finally, the general travel and off-highway vehicle use portion of these rules will enhance user safety and protect critical resources.

IV. Procedural Matters

Executive Order 12866, Regulatory Planning and Review

These supplementary rules are not a significant regulatory action and are not subject to review by the Office of Management and Budget under Executive Order 12866. These rules will not have an effect of $100 million or more on the economy. These rules will not adversely affect in a material way the economy, productivity, competition, jobs, the environment, public health or safety, or State, local, or tribal governments or communities. These rules will not create a serious inconsistency or otherwise interfere with an action taken or planned by another agency. These rules do not materially alter the budgetary effects of entitlements, grants, user fees, or loan programs, or the rights or obligations of their recipients; nor do they raise novel legal or policy issues. These supplementary rules will not affect legal commercial activity, but merely restrict or prohibit, in a reasonable manner, certain public conduct and uses of a limited area of public lands.

Clarity of the Supplementary Rules

Executive Order 12866 requires each agency to write regulations that are simple and easy to understand. We invite comments on how to make these supplementary rules easier to understand, including answers to questions such as the following:

(1) Are the requirements in the proposed supplementary rules clearly stated?

(2) Do the proposed supplementary rules contain technical language or jargon that interferes with their clarity?

(3) Does the format of the proposed supplementary rules (grouping and order of sections, use of headings, paragraphing, etc.) aid or reduce its clarity?

(4) Would the proposed supplementary rules be easier to understand if they were divided into more (but shorter) sections?

(5) Is the description of the proposed supplementary rules in the “Discussion of Proposed Supplementary Rules” section of this preamble helpful in understanding these proposed supplementary rules? How could this description be more helpful in making the proposed supplementary rules easier to understand?

Please send any comments you have on the clarity of the proposed supplementary rules to the address specified in the ADDRESSES section.

National Environmental Policy Act

The BLM and USFS prepared an Environmental Assessment (EA) (ID-310-2006-EA-3398) for the Snake River Activity/Operations Plan Revision, and found that the management direction implementing the plan decisions will not constitute a major Federal action significantly affecting the quality of the human environment under Section 102(2)(C) of the National Environmental Policy Act of 1969 (NEPA), 42 U.S.C. 4332(2)(C). The BLM has placed the EA, Finding of No Significant Impact (FONSI), and Decision Record on file in the BLM Administrative Record at the address specified in the “ADDRESSES” section. The EA and FONSI are also located on the following BLM Upper Snake Field Office Web site: http://www.blm.gov/id/st/en/fo/upper_snake.html.

Regulatory Flexibility Act

Congress enacted the Regulatory Flexibility Act of 1980 (RFA), as amended, 5 U.S.C. 601-612, to ensure that government regulations do not unnecessarily or disproportionately burden small entities. The RFA requires a regulatory flexibility analysis if a rule would have a significant economic impact, either detrimental or beneficial, on a substantial number of small entities. These rules conserve natural and cultural resources and protect public health and safety, while providing for recreational opportunities in the area. Therefore, the BLM has determined under the RFA that these rules would not have a significant economic impact on a substantial number of small entities.

Small Business Regulatory Enforcement Fairness Act (SBREFA)

These supplementary rules do not constitute a major rule as defined at 5 U.S.C. 804(2). These rules merely protect public health and safety and conserve natural and cultural resources, while providing for recreational opportunities in the area and do not:

(1) Have an annual effect on the economy of $100 million or more;

(2) Cause a major increase in costs or prices for consumers, individual industries, Federal, State, or local government agencies, or geographic regions; or

(3) Have significant adverse effects on competition, employment, investment, productivity, innovation, or on the ability of United States-based enterprises to compete with foreign-based enterprises in domestic and export markets.

Unfunded Mandates Reform Act

These supplementary rules do not impose an unfunded mandate on State, local, or tribal governments or the private sector of more than $100 million per year; nor do these supplementary rules have a significant or unique effect on State, local, or tribal governments or the private sector. These supplementary rules have no effect on State, local, or tribal governments and do not impose any requirements on any of these entities. These supplementary rules merely impose reasonable limitations or prohibitions on certain public conduct and uses of a limited area of public lands. These rules will conserve natural and cultural resources, and protect public health and safety, while providing for recreational opportunities in the area. Therefore, the BLM has determined that a statement containing the information required by the Unfunded Mandates Reform Act (2 U.S.C. 1531 et seq.) is not required.

Executive Order 12630, Governmental Actions and Interference With Constitutionally Protected Property Rights (Takings)

These supplementary rules do not represent a government action capable of interfering with constitutionally protected property rights. The supplementary rules do not address property rights in any form, and do not cause the impairment of one's property rights. Therefore, the BLM has determined that these supplementary rules would not cause a “taking” of private property or require further discussion of takings implications under this Executive Order.

Executive Order 13132, Federalism

These supplementary rules will not have a substantial direct effect on the states, on the relationship between the national government and the states, or on the distribution of power and responsibilities among the various levels of government. These supplementary rules do not conflict with any Idaho State law or regulation. Therefore, in accordance with Executive Order 13132, the BLM has determined that these supplementary rules do not have sufficient Federalism implications to warrant preparation of a Federalism Assessment.

Executive Order 12988, Civil Justice Reform

Under Executive Order 12988, the Idaho State Office of the BLM has determined that these supplementary rules would not unduly burden the judicial system and that they meet the requirements of sections 3(a) and 3(b)(2) of the Order.

Executive Order 13175, Consultation and Coordination With Indian Tribal Governments

In accordance with Executive Order 13175, the BLM has found that these supplementary rules do not include policies that have tribal implications. Government-to-government consultation was conducted with the Shoshone-Bannock Tribes.

Executive Order 13211, Actions Concerning Regulations That Significantly Affect Energy Supply, Distribution, or Use

These supplementary rules do not comprise a significant energy action. These rules will not have an adverse effect on energy supply, production, or consumption and have no connection with energy policy.

Paperwork Reduction Act

The supplementary rules do not contain information collection requirements that the Office of Management and Budget must approve under the Paperwork Reduction Act of 1995, 44 U.S.C. 3501 et seq.

Author

The principal author of these supplementary rules is Shannon Bassista, Outdoor Recreation Planner, Bureau of Land Management.

Supplementary Rules for the Planning Area Identified in the Snake River Activity and Operations Plan

For the reasons stated in the Preamble and under the authority of FLPMA, 43 U.S.C. 1733(a) and 43 CFR 8365.1-6, the Upper Snake Field Office, Bureau of Land Management (BLM) proposes to issue supplementary rules for BLM lands covered by the Snake River Plan, to read as follows:

1. Firearms and Target Shooting

a. The discharge of any weapons (i.e., projectiles, firearms, muzzleloaders), including those used for target shooting, within the boundaries or within 250 yards of developed recreation sites or areas is prohibited. Boundaries are defined by perimeter fences and/or the gravel or asphalted parking areas and site roads. Developed recreation site boundaries are identified by maps and/or legal descriptions available at the BLM Upper Snake Field Office and at the following Web site: (http://www.blm.gov/id/st/en/fo/upper_snake/recreation_sites_html). All firearm and target shooting rules will apply to new recreation sites as they are developed.

b. The discharge of weapons of any kind is prohibited year-round on BLM lands at North Menan Butte (i.e., all trails, parking areas, or any BLM lands on the slopes and crater of the butte).

c. Any object containing glass or other material that can shatter and cause a public safety hazard must not be used for target shooting.

d. All shooting materials, including spent brass or shells, their containers, and any items used as targets, must be removed and properly disposed of.

2. Length of Stay

All camping within the planning area is subject to a 5-day camping limit within any period of 19 consecutive days. The 5-day limit may be reached either through 5 separate visits or 5 days of continuous occupation during the 19-day period. After the 5-day limit has been reached, campers must move outside of a 20-mile radius of the previous location and not return to that location for 14 days. Exceeding length of stay limits, as indicated by a BLM sign or map, is prohibited.

3. Camping

a. You must only camp in sites or areas designated as open to camping by a BLM sign or map.

b. Camp Areas Accessed by Vehicle or by Foot Travel: At the Kelly Island Campground and Wolf Flats Recreation Area visitors must camp in designated sites identified by a fire ring and/or picnic table. Camping outside of the boundaries defined by barriers such as post and cable or buck and pole fence is prohibited. As undeveloped camping areas within the Upper Snake Field Office are developed by the BLM through the addition of fire rings, restrooms, picnic tables, etc., visitors must camp in identified designated sites at the developed camping locations.

c. Camp Areas Accessed by Floating/Boating: You must camp in designated sites identified by a sign or map between Palisades Dam and Byington boat access. You must camp in designated sites along the rest of the river corridor as they become designated.

d. You must not leave personal belongings overnight in an unattended campsite.

e. You must keep campsites free of trash, litter and debris during the period of occupancy.

f. You must remove all personal equipment and clean campsites upon departure.

g. You must not camp within a 400-meter radius of active Bald Eagle nests, which are indicated by a BLM sign or map. Areas within a 400-meter radius of active Bald Eagle nests are closed to human entry from February 1 to July 31 each year.

These rules supersede the Notice of Seasonal Restrictions and Limited Land Use, Closure Order, Idaho that the BLM published in the Federal Register on June 18, 1992 (57 FR 27264).

4. Permits

You must complete and possess a self-issue permit when using overnight designated campsites that are exclusively accessed by boat. Visitors are required to provide one completed copy for the BLM and maintain an additional copy throughout their overnight camping trip. These rules supersede the Notice of Sanitation and Special Recreation Permit Requirements on the South Fork of the Snake River which the BLM published in the Federal Register on April 20, 1995 (60 FR 19762).

5. Human Waste Disposal

a. You must remove solid human waste and toilet paper from the 119-mile river corridor. You must use a human waste carryout system (e.g., sealable portable toilet, or a landfill approved biodegradable double bag system). The landfill approved biodegradable system must be made from puncture resistant materials and contain non-toxic powder and decay catalyst that breaks down solid waste and turns liquid waste to a solid for hygienic and spill-proof transport.

Rule 5(a) does not apply where waste disposal facilities are provided (e.g., Kelly Island Campground and Wolf Flats Recreation Area).

b. Any portable toilet system must be reusable, washable, water-tight, and portable toilet and/or RV-dump compatible. Portable toilets with snap-on lids, such as ammo cans or plastic buckets, are required to have a rubber gasket to prevent leaks and spills. Plastic bag liners are not acceptable with the exception of a landfill approved biodegradable double bag system addressed in Rule 5(a).

These rules supersede the Notice of Sanitation and Special Recreation Permit Requirements on the South Fork of the Snake River which the BLM published in the Federal Register on April 20, 1995 (60 FR 19762).

6. Campfires and Wood Collecting

a. You must not cut any trees for commercial or private use. You must not remove branches and other parts of the trees that are still attached to the tree unless a BLM permit is issued.

b. You must only collect dead and downed wood for campfires in reasonable amounts. The collected reasonable amount is determined by the amount an average person could haul or carry without the use of a machine.

c. Girdling (making a band around the trunk of a tree by removing a strip of bark) or damaging trees in the planning area is prohibited. The use of chainsaws is prohibited.

d. Fire Pan and Ash Removal: An approved fire pan is a durable, metal pan at least 12-inches x 12-inches wide, with at least a 1.5-inch lip around its outer edge and sufficient to contain a fire and its remains. Visitors must elevate fire pans off the ground to prevent scorching of the soil. If the fire pan does not have legs to elevate it, rocks must be placed underneath the corners of the fire pan. All ash must be removed and carried out of the river corridor in a sealed container or durable bag.

e. Camp Areas Accessed by Vehicle or by Foot Travel: Unless the BLM installs a fire ring, you must use a fire pan and carry out all ash from undeveloped dispersed camping sites. All fires must be fully contained in a metal fire grate, fire pan, or other metal device to contain ashes. Mechanical stoves and other appliances that are fueled by gas and equipped with a valve that allows the operator to control the flame are allowed.

f. You must not start or maintain a fire in sites or areas not designated as open for such use by a BLM sign or map.

g. Camp Areas Accessed by Floating/Boating: You must use a fire pan and carry out all ash prior to abandoning the site.

h. When starting or maintaining a fire outside of a developed recreation site, you must contain and dispose of fire ashes and debris as indicated by a BLM sign or map.

i. You must not burn wood or other material containing nails, glass, or any metal.

7. General Travel Management

a. You must not enter an area designated closed by a BLM sign or map by means of motorized vehicle, including off-highway vehicles (OHVs). The open roads in the planning area are located within the developed recreation site boundaries that are identified by maps and/or legal descriptions available at the BLM Upper Snake Field Office and at the following Web site: http://www.blm.gov/id/st/en/fo/upper_snake/recreation_sites.html. The site roads and trails are also shown on these maps.

b. Roads and trails must only be used when designated as open by the BLM sign or map. You must only access such roads and trails by an allowable method of travel as indicated by a BLM sign or map. Rule 7(b) does not apply to holders of BLM-issued rights-of-way for maintenance or administrative purposes.

c. From December 1 through April 30, the Stinking Springs Trail and parts of the upper bench adjacent to the Wolf Flats Recreation Area are closed to human and vehicle entry without a permit to protect wintering big game. BLM closure maps are available at the BLM Upper Snake Field Office. Outside of the closure period, the motorized portion of trail is open to all modes of travel, except snow vehicles and vehicles more than 50 inches wide. The legal description for the closure is:

Boise Meridian, Idaho

T. 4 N., R. 41 E.,

Sec. 32, lands east of Kelly Canyon Road in the NE¼, lands east of Kelly Canyon Road in the SE¼NW¼, lands east of Kelly Canyon in the NE¼SW¼, SE¼;

Sec. 33, a portion of the W½NE¼, a portion of the SW¼SW¼SE¼NE¼, NE¼NEW¼, lands east of the Kelly Canyon Road in the NW¼NW¼, S½NW¼, SW¼, a portion of the NE¼SE¼, W½SE¼, SE¼SE¼.

T. 3 N., R. 41 E.,

Sec. 2, SW¼;

Sec. 3, a portion of the NE¼NE¼, W½NE¼, SE¼NE¼, W½, SE¼;

Sec. 4, N½SW¼, SE¼SW¼, SE¼;

Sec. 5, NW¼NE¼;

Sec. 8, a portion of lots 6 and 8;

Sec. 9, a portion of lots 2 through 4, N½, NE¼SW¼, N½SE¼, SE¼SE¼;

Sec. 10, a portion of lots 1 and 2, N½NE¼, SW¼NE¼, NW¼, N½SW¼, SW¼SW¼, a portion of the SE¼SW¼;

Sec. 11, a portion of lots 2 through 4, N½NW¼, N½SE¼SE¼;

Sec. 15, a portion of lots 7 and 8, a portion of the NW¼NW¼;

Sec. 16, a portion of lots 5 and 6.

These rules supersede the Notice of Emergency Closure of Public Lands, Idaho that the BLM published in the Federal Register on March 16, 1988 (53 FR 8701).

8. Vehicle Size and Trail Width

a. You must not operate a motorized or mechanized vehicle in violation of trail width and/or vehicle type restrictions as indicated by a BLM sign or map.

b. You must not operate any vehicle more than 50 inches wide on any designated OHV routes.

c. You must not operate any vehicle more than 36 inches wide on any designated single track routes.

9. Boat Launch

You may launch a boat in designated boat launches that are identified by a BLM sign or map.

10. Parking Restrictions

You must comply with parking restrictions at BLM designated recreation sites or identified by a BLM sign or map.

11. Kelly Island Campground

You must comply with the following regulations at Kelly Island Campground:

a. Only two vehicles are permitted in a single campsite, only one of which may be a recreational vehicle (RV), camper, or vehicle with a camp trailer. No more than eight people are allowed per site.

b. Double campsites 1, 3, and 6 can accommodate no more than four vehicles, only two of which may be an RV, camper, or vehicle with a camp trailer. No more than 16 people are allowed per double campsite. For all double campsites, the standard campsite fee must be doubled.

c. All camping is subject to a 5-day stay limit.

d. The campsite may only be occupied nightly by registered parties.

e. Horses must be kept outside the recreation site and campground. All pets must be on a leash not longer than 6 feet and secured to a fixed object or under the control of a person, or otherwise physically restricted at all times.

f. You must keep and leave your camp clean. Do not throw trash into the river, fire rings, or vault toilets.

g. Fires must be fully contained in a metal fire grate, fire pan, or other metal device to contain ashes.

h. Do not damage buildings, signs, trees, vegetation or other facilities.

i. Visitors must obey quiet hours from 10 p.m. until 7 a.m. Do not use generators, radios, or other noisy devices during quiet hours.

j. Overnight visitors must return to the campground by 10 p.m. The entrance gate will be locked from 10 p.m. until 7 a.m. to prevent non-campers from entering.

k. You must not enter Kelly Island Campground via an OHV. Do not remove OHVs from trailers at Kelly Island Campground.

12. Other Use Authorizations

You must not violate any terms, conditions or stipulations of any permit or other authorization issued for special use of these public lands.

Exceptions

The prohibition on the use of firearms in rule 1(a) does not prohibit hunting by licensed hunters in legitimate pursuit of wild game during the proper season with appropriate firearms, as permitted by Idaho Department of Fish and Game, within all developed recreation site boundaries after October 1.

Hunting is prohibited within the Kelly Island Campground boundaries until the campground is closed for the season (closure timeframe varies), after which hunting by licensed hunters in legitimate pursuit of wild game is permitted within the boundaries. The gate must be closed and locked for the season before hunting (by foot) is permitted within the Kelly Island Campground boundaries. Campground closure will be advertised at the Eastern Idaho Visitor Center, the BLM Upper Snake Field Office, and at the following BLM recreation Web site: (http://www.blm.gov/id/st/en/fo/upper_snake/recreation_sites_html).

Definitions: For the purpose of these supplementary rules, the following definitions apply unless modified within a specific part or regulation:

Camping means erecting a tent or a shelter of natural or synthetic materials, preparing a sleeping bag or other bedding material for use, or parking a motor vehicle, motor home, or trailer for the purpose or apparent purpose of overnight occupancy.

Designated campsite means a specific location identified by the BLM for camping. Designated campsites could include individual sites in developed campgrounds and developed recreation sites for camping that may or may not contain picnic tables, shelters, parking sites, and/or grills. All designated campsites are identified by a BLM map or sign.

Developed recreational site means any site or area that contains structures or capital improvements primarily used by the public for recreation purposes. Such areas or sites may include: delineated spaces or areas for parking, camping or boat launching; sanitation facilities; potable water; grills or fire rings; tables; or controlled access.

Off-highway vehicle (OHV) means any motorized vehicle capable of or designated for travel on or immediately over land, water, or other natural terrain, excluding: (1) Any non-amphibious registered motorboat; (2) any military, fire, emergency, or law enforcement vehicle while being used for emergency purposes; (3) any vehicle whose use is expressly authorized by the authorized officer, or otherwise officially approved; (4) vehicles in official use; and (5) any combat or combat-support vehicle when used in times of national defense emergencies.

Penalties: Under section 303(a) of the Federal Land Policy and Management Act of 1976 (43 U.S.C. 1733(a)) and 43 CFR 8360.0-7, any person who violates any of these supplementary rules may be tried before a United States Magistrate and fined up to $1,000 or imprisoned for no more than 12 months.

Such violations may also be subject to the enhanced fines provided for by 18 U.S.C. 3571.

Peter J. Ditton,
Acting Idaho BLM State Director.

[FR Doc. 2010-21720 Filed 8-30-10; 8:45 am]

BILLING CODE 4310-GG-P